DEPARTMENT OF JUSTICE

Notice of Lodging of Proposed Settlement Agreement Under the Resource Conservation and Recovery Act (RCRA)

Notice is hereby given that on June 6, 2008, a proposed Settlement Agreement was lodged in the United States District Court for the Southern District of Texas in United States of America v. Encycle/Texas, Inc. and Asarco Inc., No. H-99-1136. The Settlement Agreement is among the United States on behalf of the Environmental Protection Agency, the State of Texas on behalf of the Texas Commission on Environmental Quality, Debtors Asarco LLC and Encycle/Texas, Inc., and the Bankruptcy Trustee for Encycle/Texas, Inc. and relates to the Encycle Site, a facility in Corpus Christi, Texas, located at 5500 Up River Road, Corpus Christi, Nueces County, Texas. The proposed Settlement Agreement previously was approved by the United States Bankruptcy Court for the Southern District of Texas in In re ASARCO LLC, No. 05-21207, and In re Encycle/Texas, Inc., No. 05-21304, by Orders dated May 7, 2008 and May 8, 2008. The settlement agreement requires the approval of the U.S. District Court for the Southern District of Texas of modification of a Consent Decree under the Resource Conservation and Recovery Act (RCRA), as amended, 42 U.S.C. 6901, et seq., entered in October 1999, and amended in August 2004, in United States v. Encycle/Texas, Inc., and Asarco, Inc., No. H-99-1136.

Among other things, the Settlement Agreement provides that the United States, the State of Texas and the Encycle Trustee will receive a combined allowed general unsecured claim against ASARCO LLC in the amount of $10 million. Proceeds distributed on account of that allowed claim must be used by the Encycle Trustee to perform RCRA closure and corrective action requirements at the Encycle Facility pursuant to the terms of the Consent Decree and other work required under applicable environmental law at the Site.

The Department of Justice will receive comments relating to the proposed Settlement Agreement for a period of thirty (30) days from the date of this publication. Comments should be addressed to the Assistant Attorney General, Environment and Natural Resources Division, and either e-mailed to pubcomment-ees.enrd@usdoj.gov or mailed to P.O. Box 7611, United States Department of Justice, Washington, DC 20044-7611, and should refer to In re Encycle/Texas, Inc., DJ Ref. No. 90-7-1-910/4. Commenters may request an opportunity for a public meeting in the affected area, in accordance with Section 7003(d) of RCRA, 42 U.S.C. 6973(d).

The proposed Agreement may be examined at the office of the United States Attorney for the Southern District of Texas, 919 Milam, Suite 1500, Houston, Texas 77002, and at the United States EPA's Region VI office at 1445 Ross Avenue, Suite 1200, Dallas, Texas 75202. During the public comment period, the proposed Agreement may also be examined on the following Department of Justice Web site: http://www.usdoj.gov/enrd/Consent_Decrees.html. In addition, a copy of the proposed Agreement may be obtained by mail from the Consent Decree Library, P.O. Box 7611, United States Department of Justice, Washington, DC 20044-7611 or by faxing or e-mailing a request to Ms. Tonia Fleetwood (tonia.fleetwood@usdoj.gov), fax no. 202-514-0097, phone confirmation number 202-514-1547. In requesting a copy from the Consent Decree Library, please enclose a check in the amount of $4.50 (25 cents per page reproduction cost) payable to the United States Treasury.

Robert Maher,
Assistant Section Chief, Environmental Enforcement Section, Environment and Natural Resources Division.

[FR Doc. E8-13156 Filed 6-11-08; 8:45 am]

BILLING CODE 4410-15-P